DEPARTMENT OF HOMELAND SECURITY

[Docket No. DHS-2023-0049]

Establishment of the Artificial Intelligence Safety and Security Board

AGENCY: Office of the Secretary, Department of Homeland Security (DHS).

ACTION: Notice of the establishment of the Artificial Intelligence Safety and Security Board.

SUMMARY: Pursuant to Executive Order (E.O.) 14110, Safe, Secure, and Trustworthy Development and Use of Artificial Intelligence, dated October 30, 2023, the Department of Homeland Security, through the Office of Partnership and Engagement, has established the Artificial Intelligence Safety and Security Board (the Board). The Board will provide the Secretary of Homeland Security (hereinafter referred to as “the Secretary”) information, advice, and recommendations to advance the security and resilience of our nation's critical infrastructure in its use of artificial intelligence (AI). This Notice is not a solicitation for membership.

FOR FURTHER INFORMATION CONTACT: Matthew F. Ferraro, U.S. Department of Homeland Security at AIBoard@hq.dhs.gov or 202-930-0595.

SUPPLEMENTARY INFORMATION: The scope of the Board's activities can include, but need not be limited to, information about emergent risks, threat mitigation guidance, and guardrails for critical infrastructure owners' and operators' use of AI. The Secretary established the Board pursuant to subsection 4.3(a)(v) of Executive Order (E.O.) 14110, Safe, Secure, and Trustworthy Development and Use of Artificial Intelligence, dated October 30, 2023, and section 871(a) of the Homeland Security Act of 2002, 6 United States Code (U.S.C.) 451(a). In recognition of the sensitive nature of the subject matter involved, the Secretary exempted the Board from The Federal Advisory Committee Act (FACA), 5 U.S.C. ch. 10. This notice is being provided in accordance with 6 U.S.C. 451(a).

The primary purpose of the Board shall be to provide the Secretary information, advice, and recommendations to advance the security and resilience of our nation's critical infrastructure in its use of artificial intelligence (AI). The Board's advice and recommendations are to be specific, actionable, timely, and strategic, and targeted to mitigate emerging risks to critical infrastructure from its use.

The duties of the Board are solely advisory in nature and shall extend only to the submission of information, advice, and recommendations to the Secretary. In recognition of the sensitive nature of the subject matter involved, the Secretary exempted the Board from The Federal Advisory Committee Act (FACA), 5 U.S.C. ch. 10.

Membership: The Board shall consist of no more than thirty-five (35) Representative Members and the Secretary. The Secretary shall Chair the Board and shall select a Vice Chair. The Secretary shall be a non-voting member of the Board.

The Chair shall lead Board meetings and provide strategic leadership and direction for the Board discussions and activities. The term of office of the Vice Chair shall be two years. The Vice Chair may be reappointed by the Secretary, not to exceed two additional terms. If the Vice Chair is not able to serve for an entire term, the Secretary shall make a new appointment.

The Board Members shall be appointed by and serve at the pleasure of the Secretary. Members shall serve a term of two years, with opportunities to be reappointed for up to two additional terms.

In order for the Secretary to fully leverage broad-ranging experience and education, the Board shall be diverse with regard to professional and technical expertise. DHS is committed to pursuing opportunities, consistent with applicable law, to compose a Board that reflects the diversity of the AI community. In accordance with E.O. 14110, the Board shall include AI experts from the private sector, academia, and government, as appropriate.

Board Members shall be comprised of Representative Members only. Members shall not serve as Special Government Employees as defined in 18 U.S.C. 202(a). The DHS Office of Partnership and Engagement shall ensure that the Board reflects a balanced membership and includes a cross-section of Members having an interest in the duties and authorities of DHS. Appointments shall be made without regard to political affiliation. In the event the Board is terminated, all appointments to the Board shall terminate automatically.

Duration: The Secretary may extend the Board every two years as the Secretary deems appropriate, pursuant to 6 U.S.C. 451.

Michael J. Miron,
Committee Management Officer, Department of Homeland Security.

[FR Doc. 2024-09132 Filed 4-26-24; 8:45 am]

BILLING CODE 9112-FN-P